DEPARTMENT OF COMMERCE

International Trade Administration

[A-570-928]

Postponement of Final Determination of Antidumping Duty Investigation: Uncovered Innerspring Units from the People's Republic of China

AGENCY: Import Administration, International Trade Administration, Department of Commerce.

EFFECTIVE DATE: August 29, 2008.

FOR FURTHER INFORMATION CONTACT: Erin Begnal or Susan Pulongbarit, Import Administration, International Trade Administration, U.S. Department of Commerce, 14th Street and Constitution Avenue, NW, Washington, DC 20230; telephone: (202) 482-1442 or (202) 482-4031, respectively.

Postponement of Final Determination

On January 22, 2008, the Department of Commerce (“Department”) initiated the antidumping duty investigation of uncovered innersprings units (“innersprings”) from the People's Republic of China (“PRC”). See Uncovered Innerspring Units From the People's Republic of China, South Africa, and the Socialist Republic of Vietnam: Initiation of Antidumping Duty Investigations, 73 FR 4817 (January 28, 2008) (“Initiation Notice”). On August 6, 2008, the Department published the Preliminary Determination in the antidumping duty investigation of innersprings from the PRC. See Uncovered Innerspring Units from the People's Republic of China: Preliminary Determination of Sales at Less Than Fair Value, 73 FR 45729 (August 6, 2008) (“Preliminary Determination”). The Preliminary Determination stated that the Department would make its final determination for this antidumping duty investigation no later than 75 days after the date of the preliminary determination.

Section 735(a)(2) of the Tariff Act of 1930, as amended, (“Act”) provides that a final determination may be postponed until not later than 135 days after the date of the publication of the preliminary determination if, in the event of an affirmative determination, a request for such postponement is made by exporters who account for a significant proportion of exports of the subject merchandise, or in the event of a negative preliminary determination, a request for such postponement is made by petitioner. In addition, the Department's regulations, at 19 CFR 351.210(e)(2), require that requests by respondents for postponement of a final determination be accompanied by a request for extension of provisional measures from a four-month period to not more than six months. See 19 CFR 351.210(e)(2).

On August 12, 2008, Nanhai Animal By-Products Imp. & Exp. Co., Ltd. (“Nanhai Animal”) and Foshan Jingxin Steel Wire & Spring Co., Ltd. (“Foshan Jingxin”)¹ requested a 60-day extension of the final determination and extension of the provisional measures. Thus, because our preliminary determination is affirmative, and the respondents requesting an extension of the final determination and an extension of the provisional measures account for a significant proportion of exports of the subject merchandise, and no compelling reasons for denial exist, we are extending the due date for the final determination to no later than 135 days after the date of the publication of the preliminary determination. For the reasons identified above, we are postponing the final determination from October 13, 2008, until December 19, 2008.

¹ In the Preliminary Determination, the Department determined that Foshan Jingxin should be considered the seller of the subject merchandise for purposes of calculating a dumping margin, and changed the designation of the mandatory respondent to Foshan Jingxin from Nanhai Animal. See Preliminary Determination 73 FR at 45732.

This notice is issued and published pursuant to sections 777(i) and 735(a)(2) of the Act and 19 CFR 351.210(g).

Dated: August 22, 2008.
David M. Spooner,
Assistant Secretary for Import Administration.

[FR Doc. E8-20154 Filed 8-28-08; 8:45 am]

BILLING CODE 3510-DS-S